DEPARTMENT OF ENERGY

Federal Energy Regulatory Commission

Combined Notice of Filings #1

Take notice that the Commission received the following electric corporate filings:

Docket Numbers: EC19-116-000.

Applicants: Black River Hydroelectric, LLC, Cube Yadkin Generation LLC, Cube Yadkin Transmission LLC, Lake Lynn Generation, LLC, PE Hydro Generation, LLC, OPG Eagle Creek Holdings LLC.

Description: Joint Application for Authorization Under Section 203 of the Federal Power Act, et al. of Black River Hydroelectric, LLC, et al.

Filed Date: 7/24/19.

Accession Number: 20190724-5145.

Comments Due: 5 p.m. ET 8/14/19.

Take notice that the Commission received the following electric rate filings:

Docket Numbers: ER10-1836-015; ER10-2005-014; ER11-26-014; ER10-1841-014; ER10-1845-014; ER10-1852-028; ER10-1897-014; ER10-1905-014; ER10-1907-013; ER10-1918-014; ER10-1925-014; ER10-1927-014; ER10-1950-014; ER10-2006-015; ER18-2246-003; ER10-1964-014; ER18-1771-004; ER16-1872-005; ER10-1970-014; ER10-1972-014; ER16-2506-006; ER10-1983-014; ER10-1984-014; ER18-2224-004; ER13-2461-009; ER10-1991-014; ER17-2270-006; ER12-1660-014; ER13-2458-009; ER10-2078-015; ER11-4462-035; ER10-1951-014; ER17-838-010.

Applicants: Ashtabula Wind, LLC, Ashtabula Wind II, LLC, Ashtabula Wind III, LLC, Butler Ridge Wind Energy Center, LLC, Crystal Lake Wind III, LLC, Florida Power & Light Company, FPL Energy Hancock County Wind, LLC, FPL Energy Mower County, LLC, FPL Energy North Dakota Wind, LLC, FPL Energy North Dakota Wind II, LLC, FPL Energy Oliver Wind I, LLC, FPL Energy Oliver Wind II, LLC, Garden Wind, LLC, Hawkeye Power Partners, LLC, Heartland Divide Wind Project, LLC, Lake Benton Power Partners II, LLC, Langdon Renewables, LLC, Marshall Solar, LLC, NextEra Energy Duane Arnold, LLC, NextEra Energy Point Beach, LLC, Oliver Wind III, LLC, Osceola Windpower, LLC, Osceola Windpower II, LLC, Pegasus Wind, LLC, Pheasant Run Wind, LLC, Story Wind, LLC, Stuttgart Solar, LLC, Tuscola Bay Wind, LLC, Tuscola Wind II, LLC, White Oak Energy LLC, NEPM II, LLC, NextEra Energy Services Massachusetts, LLC, NextEra Energy Marketing, LLC.

Description: Notification of Change in Status of NextEra Resources Entities, et al.

Filed Date: 7/24/19.

Accession Number: 20190724-5162.

Comments Due: 5 p.m. ET 8/14/19.

Docket Numbers: ER17-2059-005.

Applicants: Puget Sound Energy, Inc.

Description: Notice of Non-Material Change in Status of Puget Sound Energy, Inc.

Filed Date: 7/24/19.

Accession Number: 20190724-5153.

Comments Due: 5 p.m. ET 8/14/19.

Docket Numbers: ER18-2085-003.

Applicants: Cambria CoGen Company.

Description: Notification of Change in Status of Cambria CoGen Company.

Filed Date: 7/25/19.

Accession Number: 20190725-5061.

Comments Due: 5 p.m. ET 8/15/19.

Docket Numbers: ER19-1213-001.

Applicants: Wabash Valley Power Association, Inc.

Description: Tariff Amendment: ER19-1213-000 Supplemental Information to be effective 7/25/2019.

Filed Date: 7/25/19.

Accession Number: 20190725-5021.

Comments Due: 5 p.m. ET 8/15/19.

Docket Numbers: ER19-1680-001.

Applicants: Southwest Power Pool, Inc.

Description: Tariff Amendment: 2236R11 Golden Spread Electric Cooperative, Inc. NITSA NOA Deficiency Respo to be effective 4/1/2019.

Filed Date: 7/25/19.

Accession Number: 20190725-5066.

Comments Due: 5 p.m. ET 8/15/19.

Docket Numbers: ER19-1964-001.

Applicants: Southwest Power Pool, Inc.

Description: Tariff Amendment: 1518R17 Arkansas Electric Cooperative Corp NITSA NOA)—Amended Filing and Defi to be effective 7/1/2019.

Filed Date: 7/25/19.

Accession Number: 20190725-5024.

Comments Due: 5 p.m. ET 8/15/19.

Docket Numbers: ER19-2077-001.

Applicants: Public Service Company of Colorado.

Description: Tariff Amendment: OATT-Att O-PSCo Deprec-TCJA Amendment Filing to be effective 1/1/2018.

Filed Date: 7/25/19.

Accession Number: 20190725-5046.

Comments Due: 5 p.m. ET 8/15/19.

Docket Numbers: ER19-2084-001.

Applicants: Public Service Company of Colorado.

Description: Tariff Amendment: 2019-7-25 Depreciation Rates & TCJA to be effective 1/1/2018.

Filed Date: 7/25/19.

Accession Number: 20190725-5043.

Comments Due: 5 p.m. ET 8/15/19.

Docket Numbers: ER19-2453-000.

Applicants: Lake Lynn Generation, LLC.

Description: § 205(d) Rate Filing: Info. Filing Pursuant to Schedule 2 of the PJM OATT & Baseline Reactive Tariff to be effective 9/23/2019.

Filed Date: 7/24/19.

Accession Number: 20190724-5126.

Comments Due: 5 p.m. ET 8/14/19.

Docket Numbers: ER19-2454-000.

Applicants: York Haven Power Company, LLC.

Description: Baseline eTariff Filing: Info. Filing Pursuant to Schedule 2 of the PJM OATT & Baseline Reactive Tariff to be effective 9/23/2019.

Filed Date: 7/24/19.

Accession Number: 20190724-5129.

Comments Due: 5 p.m. ET 8/14/19.

Docket Numbers: ER19-2455-000.

Applicants: Ohio Power Company, AEP Ohio Transmission Company, Inc., PJM Interconnection, L.L.C.

Description: § 205(d) Rate Filing: AEP submits ILDSA, Service Agreement No. 1575 with City of Westerville to be effective 7/1/2019.

Filed Date: 7/24/19.

Accession Number: 20190724-5136.

Comments Due: 5 p.m. ET 8/14/19.

Docket Numbers: ER19-2456-000.

Applicants: Nevada Power Company.

Description: Notice of Cancellation of Coordination Power Service Agreement No. 5 of Nevada Power Company.

Filed Date: 7/24/19.

Accession Number: 20190724-5147.

Comments Due: 5 p.m. ET 8/14/19.

Docket Numbers: ER19-2457-000.

Applicants: Midcontinent Independent System Operator, Inc.

Description: § 205(d) Rate Filing: 2019-07-25_SA 3333 ITC-DTE Electric (J793) to be effective 7/11/2019.

Filed Date: 7/25/19.

Accession Number: 20190725-5022.

Comments Due: 5 p.m. ET 8/15/19.

Docket Numbers: ER19-2458-000.

Applicants: Alabama Power Company.

Description: § 205(d) Rate Filing: Guernsey Holdings LGIA Filing to be effective 7/12/2019.

Filed Date: 7/25/19.

Accession Number: 20190725-5040.

Comments Due: 5 p.m. ET 8/15/19.

Docket Numbers: ER19-2459-000.

Applicants: Duke Energy Carolinas, LLC.

Description: § 205(d) Rate Filing: DEC-NCEMC NITSA (SA No. 210) Arlington Tap to be effective 7/3/2019.

Filed Date: 7/25/19.

Accession Number: 20190725-5057.

Comments Due: 5 p.m. ET 8/15/19.

Docket Numbers: ER19-2460-000.

Applicants: DWW Solar II, LLC.

Description: Baseline eTariff Filing: MBR Application and Requests for Waivers, et al. to be effective 9/23/2019.

Filed Date: 7/25/19.

Accession Number: 20190725-5063.

Comments Due: 5 p.m. ET 8/15/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2019.
Kimberly D. Bose,
Secretary.

[FR Doc. 2019-16277 Filed 7-30-19; 8:45 am]

BILLING CODE 6717-01-P